DEPARTMENT OF COMMERCE

National Oceanic and Atmospheric Administration

RIN 0648-XD248

Endangered Species; File No. 18526

AGENCY: National Marine Fisheries Service (NMFS), National Oceanic and Atmospheric Administration (NOAA), Commerce.

ACTION: Issuance of permit.

SUMMARY: Notice is hereby given that Coonamessett Farm Foundation, Inc., 277 Hatchville Road, East Falmouth, MA 02536 [Responsible Party: Ronald Smolowitz], has been issued a permit to take sea turtles for purposes of scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Malcolm Mohead or Amy Hapeman, (301) 427-8401.

SUPPLEMENTARY INFORMATION: On April 22, 2014, notice was published in the Federal Register (79 FR 22479) that a request for a scientific research permit to take endangered and threatened sea turtles has been submitted by the above-named organization. The requested permit has been issued under the authority of the Endangered Species Act of 1973, as amended (ESA; 16 U.S.C. 1531 et seq.) and the regulations governing the taking, importing, and exporting of endangered and threatened species (50 CFR parts 222-226).

Mr. Smolowitz has been issued a five-year permit to continue ongoing research assessing and reducing sea turtle bycatch in sea scallop fisheries in the Mid-Atlantic Bight. The research will aid in estimating abundance estimates, evaluating scallop harvesting strategies to minimize harm to sea turtles, and defining critical habitat of loggerhead (Caretta caretta), Kemp's ridley (Lepidochelys kempii), leatherback (Dermochelys coriacea), and green (Chelonia mydas) sea turtles. Sea turtles may be captured by hoop net, weighed and measured, blood and tissue sampled, and tagged with flipper tags, passive integrated transponders, and satellite tags. Turtles will also be tracked and monitored with a remotely operated vehicle.

Issuance of this permit, as required by the ESA, was based on a finding that such permit (1) was applied for in good faith, (2) will not operate to the disadvantage of such endangered or threatened species, and (3) is consistent with the purposes and policies set forth in section 2 of the ESA.

Dated: November 24, 2015.
Julia Harrison,
Chief, Permits and Conservation Division, Office of Protected Resources, National Marine Fisheries Service.

[FR Doc. 2015-30297 Filed 11-27-15; 8:45 am]

BILLING CODE 3510-22-P